FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted January 1, 2014 Thru January 31, 2014
01/07/2014
20140342 | G | ArcLight Energy Partners Fund V, L.P.; Penn Virginia Corporation ArcLight Energy Partners Fund V, L.P.
20140347 | G | JPMorgan & Chase & Co.; FMC Corporation; JPMorgan & Chase & Co.
20140349 | G | Viva Alamo Holdings LLC Centrica plc; Viva Alamo Holdings LLC.
20140354 | G | Onex Partners III LP; Providence Equity Partners VI L.P.; Onex Partners III LP.
20140359 | G | International Business Machines Corporation; Michelle Munson & Serban Simu; International Business Machines Corporation.
20140365 | G | Bain Capital Fund VII, L.P.; SpinCo; Bain Capital Fund VII, L.P.
20140366 | G | SpinCo; Bain Capital Fund VII, L.P.; SpinCo.
20140369 | G | Eldorado Holdco, LLC; MTR Gaming Group, Inc.; Eldorado Holdco, LLC.
20140370 | G | MTR Gaming Group, Inc.; Eldorado Holdco, LLC; MTR Gaming Group, Inc.
20140373 | G | ABRY Partners VII, L.P.; New Mountain Partners II, L.P.; ABRY Partners VII, L.P.
20140383 | G | Ronald O. Perelman; Valassis Communications, Inc.; Ronald O. Perelman.
01/08/2014
20140361 | G | Permira V L.P. 2; Atrium Innovations Inc.; Permira V L.P. 2.
20140375 | G | AstraZeneca PLC; Bristol-Myers Squibb Company; AstraZeneca PLC.
01/09/2014
20140337 | G | Castlerigg International Limited; Bob Evans Farms, Inc.; Castlerigg International Limited.
01/10/2014
20140368 | G | Kinder Morgan Energy Partners, L.P.; Blackstone Capital Partners V USS L.P.; Kinder Morgan Energy Partners, L.P.
20140376 | G | Taiyo Nippon Sanso Corporation; Continental Carbonic Products, Inc.; Taiyo Nippon Sanso Corporation.
20140378 | G | UnitedHealth Group Incorporated; Audax Health Solutions, Inc.; UnitedHealth Group Incorporated.
20140393 | G | Bain Capital Fund X, L.P.; SKM Equity Fund III, L.P.; Bain Capital Fund X, L.P.
20140396 | G | Elance, Inc.; oDesk Corporation; Elance, Inc.
20140397 | G | Yildiz Holding A.S.; Brynwood Partners V, L.P.; Yildiz Holding A.S.
20140404 | G | B/E Aerospace, Inc.; The Michael Bright White's Children's Trust; B/E Aerospace, Inc.
20140410 | G | Permira V L.P. 2; LegalZoom.com, Inc.; Permira V L.P. 2.
20140416 | G | GRCY Holdings, Inc.; Arden Group, Inc.; GRCY Holdings, Inc.
01/13/2014
20140384 | G | Tribune Company; Sony Corporation; Tribune Company.
20140398 | G | Thomas H. Lee Equity Fund VI, L.P.; AEA Investors Small Business Fund II LP; Thomas H. Lee Equity Fund VI, L.P.
20140403 | G | TPG Growth II, L.P.; J.A. Cosmetics, Corp.; TPG Growth II, L.P.
01/14/2014
20140186 | G | Open Text Corporation; Francisco Partners, L.P.; Open Text Corporation.
20140400 | G | Engility Holdings, Inc.; Dynamics Research Corporation; Engility Holdings, Inc.
20140402 | G | TRI Pointe Homes, Inc.; Weyerhaeuser Real Estate Company; TRI Pointe Homes, Inc.
01/15/2014
20140171 | G | The Mosaic Company; CF Industries Holdings, Inc.; The Mosaic Company.
20140409 | G | Madison Dearborn Capital Partners VI-A, L.P.; Ikaria, Inc.; Madison Dearborn Capital Partners VI-A, L.P.
20140419 | G | Verint Systems Inc. KAY Technology Holdings, Inc.; Verint Systems Inc.
01/16/2014
20140392 | G | Eric Mandelblatt c/o Soroban Capital Partners LLC; The Williams Companies, Inc.; Eric Mandelblatt c/o Soroban Capital Partners LLC.
20140417 | G | Norbert W. Bischotberger, Ph.D.; Gilead Sciences, Inc.; Norbert W. Bischotberger, Ph.D.
01/17/2014
20140408 | G | Partners Group Direct Investments 2012 (EUR), L.P.; VAT Holding AG; Partners Group Direct Investments 2012 (EUR), L.P.
20140415 | G | Oracle Corporation; Responsys, Inc.; Oracle Corporation.
20140418 | G | Berkshire Hathaway Inc.; Phillips 66; Berkshire Hathaway Inc.
20140421 | G | Thomas H. Lee Equity Fund VI, L.P.; WellPoint, Inc.; Thomas H. Lee Equity Fund VI, L.P.
20140422 | G | Marlin Equity IV, L.P.; Compuware Corporation; Marlin Equity IV, L.P.
20140423 | G | Blackstone Capital Partners VI L.P.; Crocs. Inc.; Blackstone Capital Partners VI L.P.
20140429 | G | Stefan Kaluzny; The Jones Group Inc.; Stefan Kaluzny.
20140432 | G | The Kroger Co.; Harris Teeter Supermarkets, Inc.; The Kroger Co.
01/22/2014
20131249 | G | Community Health Systems, Inc.; Health Management Associates, Inc.; Community Health Systems, Inc.
20140362 | G | B/E Aerospace, Inc.; LA-Tex Holdings, LLC; B/E Aerospace, Inc.
20140426 | G | Convergys Corporation; Ares Corporate Opportunities Fund II, L.P.; Convergys Corporation.
01/23/2014
20140372 | G | The Methodist Hospital; CHRISTUS Health; The Methodist Hospital.
20140447 | G | Forest Laboratories, Inc.; TPG Partners V, L.P.; Forest Laboratories, Inc.
01/24/2014
20140412 | G | Pershing Square, L.P.; Platform Specialty Products Corporation; Pershing Square, L.P.
20140413 | G | Pershing Square Holdings, Ltd.; Platform Specialty Products Corporation; Pershing Square Holdings, Ltd.
20140414 | G | Pershing Square International, Ltd.; Platform Specialty Products Corporation; Pershing Square International, Ltd.
20140427 | G | SLP Wolf Investors, LLC; IMG Worldwide Holdings, Inc.; SLP Wolf Investors, LLC.
20140428 | G | Ricoh Company, Ltd.; Best Buy Co., Inc.; Ricoh Company, Ltd.
01/28/2014
20140430 | G | Forward Air Corporation; Bryan F. Grane; Forward Air Corporation.
20140439 | G | Mikhail Prokhorov; Mercator Minerals Ltd.; Mikhail Prokhorov.
20140446 | G | XPO Logistics, Inc.; Pacer International, Inc.; XPO Logistics, Inc.
20140448 | G | NKSJ Holdings, Inc.; Canopius Group Limited; NKSJ Holdings, Inc.
20140451 | G | ABRY Partners VI, L.P.; Arrowood Investment Group, LLC; ABRY Partners VI, L.P.
20140452 | G | Lindsay Goldberg III CR AIV L.P.; LaFarge S.A.; Lindsay Goldberg III CR AIV L.P.
20140453 | G | Compass Investment Partners Fund, L.P.; Riverside Micro-Cap Fund I, L.P.; Compass Investment Partners Fund, L.P.
20140454 | G | Oaktree Power Opportunities Fund III, LP; Kirlin Holdings, LLC; Oaktree Power Opportunities Fund III, LP.
20140459 | G | Twin River Worldwide Holdings, Inc.; Leucadia National Corporation; Twin River Worldwide Holdings, Inc.
20140471 | G | Apollo Investment Fund VIII, L.P.; CEC Entertainment, Inc.; Apollo Investment Fund VIII, L.P.
01/29/2014
20140291 | G | Kuraray Co., Ltd.; E. I. du Pont de Nemours and Company; Kuraray Co., Ltd.
20140380 | G | ArcelorMittal SA; ThyssenKrupp AG; ArcelorMittal SA.
20140382 | G | Nippon Steel & Sumitomo Metal Corporation ThyssenKrupp AG; Nippon Steel & Sumitomo Metal Corporation.
20140399 | G | Dealertrack Technologies, Inc.; Dealer Dot Com, Inc.; Dealertrack Technologies, Inc.
20140425 | G | Huntsman Gay Capital Partners Fund, L.P.; Jabil Circuit, Inc.; Huntsman Gay Capital Partners Fund, L.P.
01/30/2014
20140406 | G | Madison Dearborn Capital Partners VI-B, L.P. Alcatel-Lucent; Madison Dearborn Capital Partners VI-B, L.P.
20140407 | G | Amadeus IT Group S.A.; Court Square Capital Partners II, L.P.; Amadeus IT Group S.A.
20140462 | G | Michael Karfunkel; Tower Group International, Ltd.; Michael Karfunkel.
20140463 | G | Roger S. Penske; Kee Wai Investment Co. (BVI) Ltd.; Roger S. Penske.
20140464 | G | Roger S. Penske; Stephen Lam; Roger S. Penske.
20140474 | G | Bill D. Mills; National Oilwell Varco, Inc.; Bill D. Mills.
01/31/2014
20130837 | S | Thermo Fisher Scientific Corporation; Life Technologies Corporation; Thermo Fisher Scientific Corporation.
20140443 | G | Banner Health; Regional Care Services Corporation; Banner Health.
20140476 | G | Riverstone Global Energy and Power Fund V (FT), L.P.; SandRidge Energy, Inc; Riverstone Global Energy and Power Fund V (FT), L.P.

FOR FURTHER INFORMATION CONTACT:

Renee Chapman, Contact Representative,

or

Theresa Kingsberry, Legal Assistant, Federal Trade Commission, Premerger Notification Office, Bureau of Competition, Room H-303, Washington, DC 20580, (202) 326-3100.

By Direction of the Commission.
Donald S. Clark,
Secretary.

[FR Doc. 2014-04709 Filed 3-3-14; 8:45 am]

BILLING CODE 6750-01-M